DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on June 29-30, 2009, in Room 462 at the Crosstown Center, Boston University School of Public Health, 801 Massachusetts Avenue, Boston, Massachusetts. The session will convene at 8 a.m. and adjourn at 5 p.m. on June 29. The session will convene at 8 a.m. and adjourn at 1:15 p.m. on June 30. The meeting is open to the public.

The purpose of the Committee is to provide advice and make recommendations to the Secretary of Veterans Affairs on proposed research studies, research plans and research strategies relating to the health consequences of military service in the Southwest Asia theater of operations during the Gulf War.

The Committee will review VA program activities related to Gulf War Veterans' illnesses and updates on relevant scientific research published since the last Committee meeting. The session on June 29 will be devoted to presentations of ongoing research related to immune function and inflammation in chronic multisymptom illness among Gulf War Veterans, the potential effects of oil well fires, and the identification of objective markers to distinguish ill from well Veterans and possible treatments. There will also be updates of the VA Gulf War research program and the VA-funded Gulf War illnesses research program at the University of Texas Southwestern Medical Center. The session on June 30 will be devoted to presentations on current treatments for chronic multisymptom illnesses. Additionally, there will be discussion of Committee business and activities.

Public comments will be received at 4:30-5 p.m. on June 29 and at 12:45-1:15 p.m. on June 30. Individuals who speak are invited to submit 1-2 page summaries of their comments for inclusion in the official record. A sign-in sheet for five-minute comments will be available each day. Members of the public may also submit written statements for the Committee's review to Dr. Roberta White at rwhite@bu.edu.

Any member of the public seeking additional information should contact Dr. William Goldberg, Designated Federal Officer, at (202) 461-1667 or Dr. Roberta White, Scientific Director, at (617) 278-4517.

Dated: June 4, 2009.
By Direction of the Secretary.
E. Philip Riggin,
Committee Management Officer.

[FR Doc. E9-13522 Filed 6-8-09; 8:45 am]

BILLING CODE 8320-01-P